DEPARTMENT OF LABOR

Pension and Welfare Benefits Administration

[Prohibited Transaction Exemption 2000-66; Application No. D-10706]

Grant of Individual Exemption for Allfirst Bank (Allfirst)

AGENCY: Pension and Welfare Benefits Administration, Department of Labor (the Department).

ACTION: Notice of technical correction.

On December 21, 2000, the Department published in the Federal Register at 65 FR 80461 a notice of individual exemption for Allfirst, which permits, as of November 13, 1998, the receipt of fees by Allfirst from the ARK Funds, open-end investment companies registered under the Investment Company Act of 1940, for acting as an investment adviser for such Funds, as well as for providing secondary services to the ARK Funds, in connection with the investment in shares of the ARK Funds by employee benefit plans for which Allfirst serves as a fiduciary.

Under the heading “Written Comments” (65 FR at 80463), the Department addressed the applicant's comment regarding a typographical error in Section I(l). However, the requested correction was inadvertently omitted from the published final exemption. In the final exemption, the last sentence in subparagraph (2) of Section I(l) should cross-reference paragraph (i) instead of (j), while the very last sentence in Section I(l) should cross-reference paragraph (j) instead of (i). Thus, beginning from Section I(l)(2) (65 FR at 80462, center column), Section I(l) should read as follows:

(l)(2) For any Client Plan under this exemption, an addition of a Secondary Service (as defined in Section III(i) below) provided by Allfirst to the Fund for which a fee is charged, or an increase in the rate of any fee paid by the ARK Funds to Allfirst for any Secondary Service that results either from an increase in the rate of such fee or from the decrease in the number or kind of services performed by Allfirst for such fee over an existing rate for such Secondary Service that had been authorized by the Second Fiduciary of a Client Plan in accordance with paragraph (i) above;

Allfirst will, at least 30 days in advance of the implementation of such additional service for which a fee is charged or fee increase, provide a written notice (which may take the form of a proxy statement, letter, or similar communication that is separate from the prospectus of the Fund and that explains the nature and amount of the additional service for which a fee is charged or of the increase in fees) to the Second Fiduciary of the Client Plan. Such notice shall be accompanied by a Termination Form with instructions as described in paragraph (j) above.

Accordingly, the Department hereby corrects such error.

FOR FURTHER INFORMATION CONTACT: Ms. Karin Weng of the Department, telephone (202) 219-8881. (This is not a toll-free number.)

Signed at Washington, DC, this 16th day of March, 2001.
Ivan L. Strasfeld,
Director, Office of Exemption Determinations, Pension and Welfare Benefits Administration.

[FR Doc. 01-7046 Filed 3-20-01; 8:45 am]

BILLING CODE 4510-29-P